DEPARTMENT OF HOUSING AND URBAN DEVELOPMENT

[Docket No. FR-4572-D-30]

Redelegation of Authority to the Deputy Assistant Secretary for Public Housing Investments

AGENCY: Office of the Assistant Secretary for Public and Indian Housing, HUD.

ACTION: Notice of redelegation of authority.

SUMMARY: In this notice, the Assistant Secretary for Public and Indian Housing redelegates to the Deputy Assistant Secretary for the Office of Public Housing Investments authority to monitor and enforce implementation by public housing agencies (PHAs) of section 33 of the United States Housing Act of 1937, with respect to the review of their inventory of public housing units. The purpose of the review is to identify developments (or parts of developments) that must be removed from the stock of public housing operated under Annual Contributions Contracts (ACC) with HUD, and to carry out plans to convert the developments identified into tenant-based assistance or other forms of housing assistance. Authority also is hereby redelegated to the Deputy Assistant Secretary for the Office of Public Housing Investments to review and approve or disapprove plans submitted by PHAs to HUD for the voluntary conversion of public housing units into tenant-based (or other) housing assistance under section 22 of the United States Housing Act of 1937. The review process also will determine whether the plans are consistent with assessments PHAs are required to make for public housing general occupancy developments and with other data available to the Secretary, and whether the plans meet the requirements under 24 CFR 972.230.

EFFECTIVE DATE: January 23, 2003.

FOR FURTHER INFORMATION CONTACT: Ainars Rodins, Office of Public and Indian Housing, Department of Housing and Urban Development, Special Applications Center, Chicago, IL (312) 353-6236. (This is not a toll-free number.) This number may be accessed via TTY by calling the Federal Information Relay Service at 1-800-877-8339.) Comments or questions can be submitted through the Internet to Beverly B Hardy@hud.gov.

SUPPLEMENTARY INFORMATION: Section 537 of the Quality Housing and Work Responsibility Act of 1998 (QHWRA) (Title V of Pub. L. 105-276, approved October 21, 1998) added a new section 33 to the United States Housing Act of 1937 (Act) (42 U.S.C. 1437 et seq.). Section 33 of the Act governs the required conversion of developments from the public housing stock. Section 533 of QHWRA also amended section 22 of the Act. Section 22 of the Act governs voluntary conversion of developments from the public housing stock. The term conversion in this context means the removal of public housing units from the inventory of a PHA, and the provision of tenant-based, or project-based assistance for the residents of the public housing being removed.

In addition to the PHA Agency Plan requirements, HUD will review separately plans for mandatory or voluntary conversion of public housing stock. With respect to required conversions, HUD may (1) Identify developments that PHAs have failed properly to include as falling within the statutory criteria, (2) ensure conversions are carried out in cases where PHAs have failed to develop or implement conversion plans, (3) prohibit or revise conversions erroneously identified as subject to section 33 of the Act, (4) direct the cessation of spending in connection with developments that are likely to be subject to the statutory criteria, and (5) authorize the direct transfer of capital or operating funds associated with a development that must be removed from the public housing stock for use instead for tenant-based assistance or site revitalization. HUD will approve plans for voluntary conversions (after checking to see if they are complete and include the information required under 24 CFR 972.230), if they are consistent with the initial assessments PHAs are required to submit under section 22 of the Act, unless HUD has reliable information that conflicts with the PHA's assessment.

The Secretary elsewhere has delegated to the Assistant Secretary for Public and Indian Housing (PIH) the authority to administer the Department's programs relating to public housing (see the delegation of authority published in the Federal Register at 48 FR 41097, September 13, 1983).

Accordingly, the Assistant Secretary for PIH redelegates that authority, as follows:

Section A. Authority Redelegated

The Assistant Secretary for PIH redelegates the following authority to the Deputy Assistant Secretary for Public Housing Investments:

1. To review and approve or disapprove actions taken and plans submitted by PHAs in connection with the required removal of certain units from the public housing stock and provision of tenant-based or project-based assistance to the residents of such developments pursuant to section 33 of the United States Housing Act of 1937 and the implementing regulations at 24 CFR part 972, and to conduct all activities related to such review, and approval or disapproval of such conversions.

2. To review and approve or disapprove plans submitted by PHAs for the voluntary conversion of units from the public housing stock into tenant-based or project-based assistance for the tenants living in the units pursuant to section 22 of the United States Housing Act of 1937 and implementing regulations at 24 CFR part 972.

Within the Office of Public Housing Investments, the review of mandatory and voluntary conversions will be handled by the Special Applications Center.

Section B. Authority to Further Redelegate

The authority redelegated to the Deputy Assistant Secretary under this notice may be redelegated within the Office of Public Housing Investments.

Dated: January 23, 2003.
Michael Liu,
Assistant Secretary for Public and Indian Housing.

[FR Doc. 03-2629 Filed 2-4-03; 8:45 am]

BILLING CODE 4210-33-P